DEPARTMENT OF DEFENSE

Department of the Army

[USA-2006-0039]

Privacy Act of 1974; System of Records

AGENCY: Department of the Army, DoD.

ACTION: Notice to Alter a System of Records.

SUMMARY: The Department of the Army is proposing to alter a system of records notice in its existing inventory of records systems subject to the Privacy Act of 1974, (5 U.S.C. 552a), as amended.

DATES: This proposed action will be effective without further notice on January 10, 2007 unless comments are received which result in a contrary determination.

ADDRESSES: Department of the Army, Freedom of Information/Privacy Office, U.S. Army Records Management and Declassification Agency, ATTN: AHRC-PDD-FPZ, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on December 1, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 4, 2006.
C.R. Choate,
Alternate OSD Federal Register Liaison Officer, Department of Defense.

A0600-8-23 AHRC

System name:

Standard Installation/Division Personnel System (SIDPERS) (January 6, 2004, 69 FR 790).

Changes:

* * * * *

Categories of individuals covered by the system:

Add to entry “family members.”

Categories of records in the system:

Add to entry “home address”.

* * * * *

Record source categories:

Add to the National Guard and Reserve Component entry: “from the Defense Enrollment Eligibility Reporting System (DEERS) database,.”

* * * * *

A0600-8-23 AHRC

System name:

Standard Installation/Division Personnel System (SIDPERS).

System location:

National Guard records are located at the Army National Guard Readiness Center, 111 South George Mason Drive, Arlington, VA 22204-1382.

Reserve Component records are located at the U.S. Army Human Resources Command, 9700 Page Boulevard, St. Louis, MO 63132-5200.

Regular Army records are located at the Army Information Processing Centers located in Chambersburg, PA 17201-4150; Huntsville, AL 35898-7340; Rock Island, IL 61299-7210; and St. Louis, MO 63120-1798.

Categories of individuals covered by the system:

All active duty Army personnel, personnel attached from National Guard and/or Army reserve members of the Army National Guard, individuals currently assigned to a U.S. Army Reserve unit, and family members.

Categories of records in the system:

Name, Social Security Number, home address, sex, race, citizenship, status, religious denomination, marital status, number of dependents, date of birth, physical profile, ethnic group, grade and date of rank, term of service for enlisted personnel, security clearance, service agreement for non-regular officers, promotion data and dates, special pay and bonus, unit of assignment and identification code, military occupational specialty, civilian occupation, additional skill identifiers, civilian and military education levels, languages, military qualification, assignment eligibility, availability and termination date thereof, security status, suspension of favorable personnel action indicator, Privacy Act disputed record indicator, and similar relevant data.

Authority for maintenance of the system:

10 U.S.C. 3013, Secretary of the Army; Army Regulation 600-8-23, Standard Installation/Division Personnel System Database Management; and E.O. 9397 (SSN).

Purpose(s):

To support personnel management decisions concerning the selection, distribution and utilization of all personnel in military duties, strength accounting and manpower management, promotions, demotions, transfers, and other personnel actions essential to unit readiness; to identify and fulfill training needs; and to support automated interfaces with authorized information systems for pay, mobilization, and other statistical reports.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes, discs, microfiche, punched cards, and computer printouts.

Retrievability:

By Name, Social Security Number, or other individually identifying characteristics.

Safeguards:

Access to data and data storage is controlled and accessible only to authorized personnel and authorized personnel with password capability for the electronic media access.

Retention and disposal:

Records are maintained one year in records holding area or current file area then retired to National Personnel Records Center. Maintained there for 75 years then destroyed.

System manager(s) and address:

National Guard: Chief, National Guard Bureau, Army National Guard Readiness Center, 111 South George Mason Drive, Arlington, VA 22204-1382.

Reserve Component: Deputy Chief of Staff for Personnel, Headquarters, Department of the Army, 300 Army Pentagon, Washington, DC 20310-0300.

Regular Army: Commander, U.S. Army Human Resources Command, 200 Stovall Street, Alexandria, VA 22332-0400.

Notification procedure:

Individuals seeking to determine whether information about themselves is contained in this system should address written inquiries to the appropriate address below:

National Guard individuals should address inquiries to the National Guard Bureau, Army National Guard Readiness Center, 111 South George Mason Drive, Arlington, VA 22204-1382.

Reserve individuals should address inquiries to the Commander of the Army Headquarters in which the unit is located.

Regular Army individuals should address inquiries to their local Commander.

All individuals should furnish full name, service identification number, current address and telephone number, signature, and specific information concerning the event or incident that will assist in locating the record.

Personal visits may be made. Individual must furnish proof of identity.

Record access procedures:

Individuals seeking to access information about themselves contained in this system should address written inquiries to the appropriate address below:

National Guard individuals should address inquiries to the National Guard Bureau, Army National Guard Readiness Center, 111 South George Mason Drive, Arlington, VA 22204-1382.

Reserve individuals should address inquiries to the Commander of the Army Headquarters in which the unit is located.

Regular Army individuals should address inquiries to their local Commander.

All individuals should furnish full name, service identification number, current address and telephone number, signature, and specific information concerning the event or incident that will assist in locating the record.

Personal visits may be made. Individual must furnish proof of identity.

Contesting record procedures:

The Army's rules for accessing records, and for contesting contents and appealing initial agency determinations are contained in Army Regulation 340-21; 32 CFR part 505; or may be obtained from the system manager.

Record source categories:

National Guard and Reserve Component: From the individual, individual's personnel and pay files, from the Defense Enrollment Eligibility Reporting (DEERS) database, and other Army records and reports.

Regular Army: From individual, commanders, Army records and documents, other Federal agencies.

Exemptions claimed for the system:

None.

[FR Doc. 06-9620 Filed 12-8-06; 8:45 am]

BILLING CODE 5001-06-M